DEPARTMENT OF THE INTERIOR

Bureau of Reclamation

Southern Delivery System Project, CO

AGENCY: Bureau of Reclamation, Interior.

ACTION: Notice of Publication and Announcement of Public Hearing for the Supplemental Information Report (SIR) for the Southern Delivery System (SDS) Draft Environmental Impact Statement (Draft EIS).

SUMMARY: The Bureau of Reclamation (Reclamation), under the National Environmental Policy Act of 1969, is announcing the opportunity for the public to review and comment on a SIR for the SDS Draft EIS. A public hearing to supplement the opportunity to comment on the SIR is also being announced. Reclamation previously published a notice in the Federal Register (73 FR 50055) on August 25, 2008, providing for extended public commenting on the water quality portion of the Draft EIS. Since then Reclamation has completed additional water quality analysis and is providing an opportunity for the public to comment on the new analysis. With this notice Reclamation is therefore closing the comment period on the original water quality analysis as mentioned in the August 25, 2008, notice and opening the comment period for the new water quality analysis. Reclamation has included this analysis in a SIR for the Draft EIS that updates and provides additional information that was not in the Draft EIS. The additional information includes, but is not necessarily limited to, the following topics: water quality analyses, potential effects on the western slope of Colorado, potential effects of a failure of new dams, effects of physical changes to the alternatives and reasonably foreseeable actions, clarification of Reclamation's purpose and need statement, changes in the project sponsors' Proposed Action, and identification of Reclamation's preferred alternative. The new and additional information is contained in the report titled “Supplemental Information Report for the Draft Environmental Impact Statement, Southern Delivery System Project, Colorado.” For access to the report and dates and locations of the public hearing, please see the SUPPLEMENTARY INFORMATION section in this announcement.

DATES: Reclamation will accept comments on the SIR during a 45-day comment period beginning with the date this notice is published. Comments must be received on or before November 24, 2008, in order to be considered.

Public Hearing

Reclamation will hold a public hearing to receive oral and written comments on the SIR at the following time and place:

• October 29, 2008, 6 p.m.-9 p.m., Pueblo Convention Center, 320 Central Main Street, Pueblo, Colorado 81003

The meeting place is accessible to people with physical disabilities. People needing special assistance to attend and/or participate in the hearing should contact Kara Lamb at 970-962-4326 as soon as possible. To allow sufficient time to process special requests, please call no later than one week before the hearing date.

ADDRESSES: Comments may be submitted in writing by facsimile, e-mail, or at the public hearing. Send comments to Supplemental Information Report, Southern Delivery System EIS, Bureau of Reclamation, Eastern Colorado Area Office, 11056 W. County Road 18E, Loveland, CO 80537. Send facsimiles to the attention of Kara Lamb at 970-663-3212. E-mail comments may be sent to klamb@gp.usbr.gov with SIR SDS Comment as the subject line.

FOR FURTHER INFORMATION CONTACT: Kara Lamb, telephone: (970) 962-4326 or FAX (970) 663-3212 or e-mail klamb@gp.usbr.gov. Mail requests should be addressed to the Bureau of Reclamation at the address provided in the ADDRESSES section.

SUPPLEMENTARY INFORMATION: The SIR is available online at the http://www.sdseis.com Web site or by contacting Kara Lamb at the address above. Comments on the SIR would be added to those already received on the Draft EIS and will be considered in preparation of the Final EIS. For those people who have provided comments on the Draft EIS your comments do not need to be submitted again.

Public Disclosure Statement: Before including your name, address, phone number, e-mail address, or other personal identifying information in your comment, you should be aware that your entire comment—including your personal identifying information—may be made publicly available at any time. While you can ask us in your comment to withhold your personal identifying information from public review, we cannot guarantee that we will be able to do so.

Dated: October 3, 2008.
Roxanne E. Peterson,
Acting, Assistant Regional Director, Great Plains Region.

[FR Doc. E8-23963 Filed 10-8-08; 8:45 am]

BILLING CODE 4310-MN-P